DEPARTMENT OF DEFENSE

Office of the Secretary

Record of Decision for the Enhanced Integrated Air and Missile Defense System on Guam Environmental Impact Statement

AGENCY: Missile Defense Agency (MDA), Department of Defense (DoD).

ACTION: Record of decision.

SUMMARY: The MDA, as the lead agency, and the United States Army (USA), as a cooperating agency, are issuing this joint Record of Decision (ROD) to implement the construction, deployment, and operations and maintenance of the Enhanced Integrated Air and Missile Defense (EIAMD) system on Guam, a territory of the U.S. This action will enable MDA and USA to meet their congressional mandate for a persistent 360-degree layered Integrated Air and Missile Defense capability on Guam to address the rapid evolution of missile threats from regional adversaries. Specifically, this ROD documents the decision made, alternatives considered, and discussions of all related and anticipated impacts. In addition to the USA, the United States Air Force (USAF), United States Navy (USN), and Federal Aviation Administration (FAA) are participating as cooperating agencies due to their jurisdiction or special expertise as it pertains to certain components of the selected alternative or for potentially affected operations and resources. The ROD details significant environmental impacts, outlines mitigation measures, and identifies the environmentally preferred alternative.

FOR FURTHER INFORMATION CONTACT: For further information on the EIAMD System on Guam Final Environmental Impact Statement (EIS) or this ROD, please contact Mr. Mark Wright, MDA Public Affairs, at 571-231-8212 or by email at mda.info@mda.mil.

Downloadable electronic versions of the Final EIS and ROD are available on MDA's website at https://www.mda.mil/system/eiamd/.

SUPPLEMENTARY INFORMATION:

A. MDA and USA Decision and Regulatory Background

On February 25, 2025, the Council on Environmental Quality (CEQ) published an interim final rule that removed all iterations of its National Environmental Policy Act (NEPA) implementing regulations (as required by Executive Order (E.O.) 14154, Unleashing American Energy), effective April 11, 2025.

The EIS complies with guidance for implementing NEPA in effect at the time of the preparation of the EIAMD System on Guam EIS: Section 102(2)(C) of NEPA of 1969, Sections 4321 et seq. of Title 42 United States Code (U.S.C.); CEQ regulations; MDA's NEPA Implementing Procedures (79 Federal Register 46410); USAF's Environmental Impact Analysis Process (32 Code of Federal Regulations (CFR) part 989); USA's NEPA Implementing Procedures (32 CFR part 651); USN's Procedures for Implementing NEPA (32 CFR part 775); and Chief of Naval Operations Instruction 5090.1E, Environmental Readiness Program; and Chief of Naval Operations Manual M-5090.1, Environmental Readiness Program Manual; and FAA NEPA implementing policies (FAA Order 1050.1F, Environmental Impacts: Policies and Procedures).

The MDA and USA are issuing this ROD to select the Proposed Action, as described in the EIAMD System on Guam Final EIS. This action will allow them to construct and implement the EIAMD system capability, along with its associated mission support facilities and infrastructure requirements, on Guam. The other option, the No Action Alternative, would be not to construct and implement the EIAMD system capability, along with the associated mission support facilities and infrastructure requirements, on Guam; this would not meet the purpose of or need for the Proposed Action. The MDA and USA will request the FAA establish or modify existing restricted airspace on Guam, as described in the EIAMD System on Guam Final EIS, to address the High Intensity Radiated Fields hazard introduced by the operation of the EIAMD system.

B. FAA Role

The FAA is a cooperating agency for the EIS because it is assigned responsibilities pursuant to 49 U.S.C. 40101 for civil aviation and regulation of air commerce in the interests of aviation safety and efficiency. The MDA and USA will request that the FAA, as a cooperating agency, consider and adopt, in whole or in part, the EIS as the required NEPA documentation to support FAA decisions on the establishment and configuration of special use airspace. The FAA will publish a separate public notification as part of its rulemaking process and issue a separate ROD for the EIS in accordance with FAA Joint Order 7400.2R, Procedures for Handling Airspace Matters.

C. Background

The selected action will construct, deploy, and operate and maintain a comprehensive, persistent, 360-degree EIAMD system to defend the entirety of Guam against the rapidly evolving threats of advanced cruise, ballistic, and hypersonic missile attacks from regional adversaries. The proposed EIAMD system includes a combination of MDA, USA, and USN components that have been integrated for air and missile defense and positioned on 16 sites on DoD lands across Guam. Site preparation could begin late in calendar year 2025. Following construction, testing, and final system check, the EIAMD system would become operational.

D. Purpose and Need

Guam is a key strategic location for sustaining and maintaining U.S. influence, deterring adversaries, responding to crises, and maintaining a free and open Indo-Pacific. Within the context of homeland defense, an attack on Guam would be considered a direct attack on the U.S. and would be met with an appropriate response. The Commander of U.S. Indo-Pacific Command has identified the need for a comprehensive, persistent, 360-degree layered Integrated Air and Missile Defense capability on Guam to address the rapid evolution of missile threats from regional adversaries. The U.S. Congress codified this requirement in the Fiscal Year (FY)22 and FY23 National Defense Authorization Acts. This defensive architecture must be adaptable to expand capability and capacity as the threat evolves. The purpose of the Proposed Action is to provide an enhanced integrated air and missile defense system to defend the entirety of Guam against rapidly evolving threats of advanced cruise, ballistic, and hypersonic missile attacks from regional adversaries as soon as possible.

E. NEPA Process

The NEPA process includes a robust public participation component. The MDA initiated a 60-day formal public scoping period by publishing a Notice of Intent to prepare an EIS in the Federal Register on May 5, 2023. The public comment period was extended to 105 days to account for impacts from Typhoon Mawar, which struck Guam on May 24, 2023. Three public scoping meetings were held on Guam on August 2, 3, and 4, 2023. The MDA received 136 comments during the scoping period, which closed on August 18, 2023. The Draft EIS was released for a 75-day public review and comment period from October 25, 2024, through January 8, 2025, with a Notice of Availability published in the Federal Register on October 25 and 28, 2024. Two public meetings were held on Guam on November 14 and 15, 2024. The MDA received 72 comment letters during the public comment period, which closed on January 8, 2025. A Notice of Availability for the EIAMD System on Guam Final EIS was published in the Federal Register on July 25, 2025. This ROD concludes the NEPA process.

F. Alternatives Considered

Although current U.S. forces are capable of defending Guam against regional ballistic missile threats, regional threats to Guam continue to increase and advance technologically. Guam's geographical location in the Pacific, topography, existing DoD lands, and critical infrastructure the island the only reasonable location capable of accommodating the unique 360-degree EIAMD system performance requirements. System components need to be distributed at locations throughout Guam to provide the performance required to defend against threats. As such, alternatives analyzed in the EIAMD System on Guam EIS consist of the Proposed Action and the No Action Alternative.

1. No Action Alternative

Under the No Action Alternative, the EIAMD system would not be established on Guam. By implementing the No Action Alternative, defensive capabilities would not expand to provide enhanced defense capability for Guam against the rapidly evolving threats of potential missile attacks from regional adversaries. The No Action Alternative serves as the baseline against which the Proposed Action is compared.

2. Proposed Action

The Proposed Action is to implement an EIAMD system capability by constructing, deploying, and operating and maintaining a comprehensive, persistent, 360-degree EIAMD system for air and missile defense positioned on 16 sites on DoD properties on Guam. Of the proposed 16 sites, which include mission support sites, 8 are on Naval Base Guam (NBG) (including the NBG Munitions Site [NMS]), 6 are on Andersen Air Force Base (AAFB), and 2 are on Marine Corps Base Camp Blaz (MCBCB). Two sites (MCBCB South and NBG Nimitz Hill) would have Explosive Safety Quantity Distance arcs that encroach on non-DoD land, potentially requiring real estate actions on those properties. Additionally, one site (NMS Northeast) would require a road easement across Government of Guam lands to access the EIAMD system site on DoD property. In addition, the Proposed Action would include modifications and restrictions to existing airspace.

G. Environmental Impacts

The EIAMD System on Guam Final EIS includes an analysis of potential impacts of the Proposed Action and No Action Alternative on the following resource areas; airspace management, health and safety, cultural resources, terrestrial biological resources, socioeconomics, protection of children and environmental justice, land use and recreational resources, transportation, visual quality, utilities, air quality, greenhouse gases,¹ noise, water resources, and geological and soil resources.

¹ While climate change and greenhouse gases were analyzed as a resource area, subsequent guidance and changes in regulatory requirements drove the decision to exclude climate change and greenhouse gases from consideration in making the decision of which alternative to select.

The discussion below summarizes only those resource areas expected to have significant impacts as a result of implementation of the Proposed Action. Based on the analysis presented in the Final EIS, all other resource areas were determined to have less than significant impacts.

1. Terrestrial Biological Resources

Site Preparation and Construction: Implementation of the Proposed Action would result in removal of limestone forest (biologically important habitat for native wildlife and federal Endangered Species Act (ESA)-listed species) across nine sites. Implementation of mitigation measures would reduce expected impacts on terrestrial biological resources on Guam but impacts from the loss of limestone forest would remain major, long term, and significant with implementation of the Proposed Action.

There would be significant impacts from the removal of approximately 5,459 individuals of the federal ESA-listed threatened plant Cycas micronesica at five locations. Implementation of mitigation measures would reduce impacts from the implementation of the Proposed Action. Due to the ongoing population decline of Cycas micronesica on Guam, combined with the additional loss of approximately 5,459 individuals, the impacts on Cycas micronesica would remain major, long term, and significant.

There would be significant impacts on the ESA-listed threatened Mariana fruit bat due to loss of 235 acres of limestone forest habitat. Given this loss of foraging and roosting habitat and the critically low numbers of fruit bats on Guam, the loss would be a major, direct, long-term, and significant impact on Mariana fruit bats but mitigable to less than significant with implementation of the mitigation measures (e.g., improving foraging and roosting habitat through the establishment of habitat enhancement sites [HESs]).

2. Socioeconomics (Housing and Health Care)

Site Preparation and Construction: Construction of the Proposed Action would require an average of 400 construction workers annually, and span over 10 years, with approximately 240 workers (60 percent) expected to be in-migrant laborers originating off Guam. Construction contractors may house in-migrant workers in suitable temporary workforce housing facilities or be required to find accommodations within the local housing market. The 2020 Guam Housing and Needs Study identified a need for an additional 9,908 housing units between 2020 and 2025 to meet community demand. In-migrant workers accommodated within the local housing market would further impact housing availability on Guam. Impacts on housing associated with the influx of in-migrant workers, although temporary, would have direct and indirect long-term, major, and significant impacts on the availability of housing on Guam.

Operations and Maintenance: Because the overall availability of housing on Guam is low, EIAMD system personnel arriving from other locations would serve on a rotational basis until adequate community support facilities are available. DoD recognizes the need for additional Life Support Facilities on Guam, including housing, to support the additional mission requirements. DoD is reviewing these needs holistically and plans to address the EIAMD system housing needs before the arrival of dependents in 2031. In the interim, for the Proposed Action, the USA plans to phase the deployment of EIAMD system personnel arriving on Guam. All EIAMD system personnel and dependents (except for civilian personnel and DoD contractors) arriving prior to 2031 will be housed in military housing units located on military installations as available. This phased approach would minimize the initial need for housing for EIAMD system personnel and limit the impact on Guam's housing market.

Beginning in 2031, approximately 2,300 permanent military and civilian personnel and their dependents, and 44 contractors supporting the EIAMD system, would reside on Guam. An estimated 20 percent (469 individuals) would require off-base housing. The projected housing requirement to support these personnel and their dependents is 324 units, which is approximately 18.8 percent of the currently available rental units on Guam that meet military housing standards. The local housing market and military housing may have sufficient capacity to meet the number of units required for operations personnel and their dependents arriving in 2031. The extent of impacts on housing, however, would depend on the availability of military housing, both the number of units and the timing of the construction of new units with the arrival of personnel, to support multiple DoD projects on Guam. Considering the limited availability of housing and the unmet community demand for housing units on Guam, impacts on housing are expected to be long term, major, and significant.

Given the increase in population associated with the Proposed Action, impacts on medical and health care services were determined to be long term and significant based on Guam's status as a Medically Underserved Area and the likelihood that the 2,300 permanent personnel and their dependents arriving on the island in 2031 would require access to local medical services, increasing the demand on a system that is already significantly overburdened. The DoD is also looking at medical services holistically and plans to address these needs prior to the arrival of dependents in 2031; military personnel associated with the Proposed Action would receive general health services at the military treatment facilities, which would minimize impacts on Guam.

3. Transportation

Site Preparation and Construction: Site preparation and construction would result in significant short-term impacts on traffic at six intersections.

Operations and Maintenance: When compared to the 2035 baseline traffic conditions (conditions after completion of construction), 13 intersections are currently operating at level of service (LOS) F but would have an increase of at least 50 additional vehicles during peak AM/PM hours as a result of the Proposed Action. Therefore, impacts from operations and maintenance would be long term, major, and significant.

4. Cumulative

Pursuant to E.O. 14154, the CEQ issued guidance, “Implementation of the National Environmental Policy Act,” dated February 19, 2025, directing federal agencies to establish or update their NEPA implementing procedures by February 19, 2026, consistent with NEPA as amended by the Fiscal Responsibility Act of 2023 (Pub. L. 118-5). With respect to cumulative impacts considerations, the CEQ guidance provides: “Effects: Federal agencies should analyze the reasonably foreseeable effects of the proposed action consistent with section 102 of NEPA, which does not employ the term `cumulative effects;' NEPA instead requires consideration of `reasonably foreseeable' effects, regardless of whether or not those effects might be characterized as `cumulative.'” Because of the regulations in effect at the time of the preparation of the EIS, the Final EIS supporting this ROD continues to provide an analysis of cumulative effects, however, the decision in this ROD must only consider those effects resulting from the reasonably foreseeable impacts of the Proposed Action. This approach is consistent with the May 29, 2025, decision by the U.S. Supreme Court in Seven County Infrastructure Coalition v. Eagle County, Colorado, 605 U.S. ___; 145 S. Ct. 1497; 221 L. Ed. 2d 820 (2025). Further explanation of the cumulative effects can be found in Chapter 4 (Cumulative Impacts) of the Final EIS.

Cumulative impacts for all resources, except terrestrial biological resources, socioeconomics (specifically, housing, medical services, and Government of Guam that provide infrastructure support on the island), and transportation, were determined to be less than significant.

• There would be significant, adverse, cumulative impacts on terrestrial biological resources due to the removal of limestone forest and the removal of approximately 5,459 individuals of the Federal ESA-listed plant species Cycas micronesica.

• Any additional demand on the local housing market as a result of the increase in EIAMD system personnel on Guam would result in a significant cumulative impact. In addition, given that Guam is designated as a Medically Underserved Area and Government of Guam services related to infrastructure support are already strained, any additional demands on these services are also considered significant cumulative impacts.

• Significant cumulative impacts would occur at 6 transportation roadway intersections from site preparation and construction and at 13 transportation roadway intersections associated with operations and maintenance when impacts of the selected action are combined with those of other actions. Implementation of the Proposed Action would generate increased traffic due to other ongoing projects on Guam.

H. Agency Coordination

The MDA and USA have consulted and coordinated with appropriate agencies and representatives, including the U.S. Fish and Wildlife Service (USFWS), Guam State Historic Preservation Office (SHPO), and Bureau of Statistics and Plans (BSP), during planning and development of the EIS. A summary of the results from each consultation and coordination process is included below:

• Federal Endangered Species Act (ESA). In accordance with the USFWS under Section 7 of the Federal ESA, the MDA and USA received a Biological Opinion (BO) on July 9, 2025 and the associated terms and conditions are addressed in this ROD. Species addressed in the BO include Mariana fruit bat, Mariana common moorhen, Mariana swiftlet, Guam kingfisher, Guam rail, Mariana crow, Mariana eight-spot butterfly, and eight plant species: Bulbophyllum guamense, Cycas micronesica, Dendrobium guamense, Eugenia bryanii, Heritiera longipetiolata, Phyllanthus saffordii, Tabernaemontana rotensis, and Tuberolabium guamense. The USFWS estimates the Proposed Action will potentially result in the incidental take of Mariana fruit bat in the form of harassment due to nighttime construction and ungulate control activities. Further, the USFWS estimates that incidental take in the form of capture and collection and mortality of Mariana eight-spot butterfly due to the development of the AAFB Munitions Storage Area (MSA) site. The USFWS determined the Proposed Action including the estimated anticipated take is likely to adversely affect, but is not likely to jeopardize the continued existence of, the Mariana fruit bat, Mariana eight-spot butterfly, Bulbophyllum guamense, Cycas micronesica, Dendrobium guamense, Eugenia bryanii, Heritiera longipetiolata, Phyllanthus saffordii, Tabernaemontana rotensis, Tuberolabium guamense, or the three extirpated species, the Guam kingfisher, Mariana crow, or Guam rail. The USFWS concurred with the determination the Proposed Action may affect but is unlikely to adversely affect Guam tree snail, humped tree snail, fragile tree snail, Mariana common moorhen and Mariana swiftlet. The MDA and USA commit to all the conservation measures, best management practices, the reasonable and associated terms, prudent measure, and terms and conditions in the BO.

• National Historic Preservation Act (NHPA). The MDA and USA are required to comply with Section 106 of the NHPA for the EIAMD undertaking. Joint Region Marianas (JRM), MDA, and USA, through consultations with the Guam SHPO, have determined the Programmatic Agreement among the Commander, Navy Region Marianas (CNRM); the Advisory Council on Historic Preservation; and the Guam SHPO regarding Navy Undertakings on the Island of Guam, November 20, 2008, applies to the Proposed Action and thus fulfills the federal agency obligations under Section 106. The 2008 Programmatic Agreement applies to all undertakings initiated within the USN's area of responsibility, regardless of whether they are initiated, funded, or carried out by CNRM (now JRM) or by another command or lessee of the USN. AAFB, MCBCB, NMS, and NBG are currently under USN joint command. The 2008 Programmatic Agreement provides alternate, streamlined procedures for completing the Section 106 process for agreed-upon undertakings. Any adverse effects on historic properties in the study area will be mitigated in accordance with the 2008 Programmatic Agreement.

• Coastal Zone Management Act (CZMA). The MDA and USA completed the CZMA federal consistency process for the Proposed Action on Guam. JRM submitted the Coastal Consistency Determination to BSP on March 11, 2025. JRM received conditional concurrence from BSP that the Proposed Action is consistent to the maximum extent practicable with the enforceable policies of Guam's Coastal Management Program (GCMP) on May 8, 2025. The Proposed Action was updated as part of the Final EIS to clarify it will be implemented consistent with the enforceable policies of the GCMP to the maximum extent practicable, satisfying the conditions in the BSP's conditional concurrence. Thus, the Proposed Action, as described in the Final EIS, is fully consistent with GCMP's enforceable policies to the maximum extent practicable.

I. Mitigation Measures and Monitoring

The MDA and USA will take all practicable means to avoid or minimize environmental harm while still fulfilling the need for the 360-degree defense of Guam. Mitigation measures are summarized below. The MDA and USA will use a mitigation monitoring database to track the implementation of mitigation measures identified in the EIS.

1. Biological Resources

The following is a general summary of the mitigation measures that will be implemented commensurate with impacts to minimize impacts on terrestrial biological resources. A detailed list of the conservation and mitigation measures, best management practices, the reasonable and prudent measures, and associated terms and conditions included in the incidental take statement are included in the USFWS BO (see Appendix E [Agency Coordination, Consultation, and Correspondence]).

• Establish Habitat Enhancement Sites (HESs)

○ Several potential HESs have been identified in northern Guam on AAFB and in southern Guam on NMS that could be used to compensate for impacts associated with the Proposed Action. The location and size of these HESs will be commensurate with the amount of limestone forest and savanna complex removed under the Proposed Action. The number, size, and location of potential HESs will be finalized in conjunction with ongoing coordination with JRM and the installation site approval process.

○ Habitat enhancement activities will include the following:

Installation of ungulate exclusion fences around the HESs;

Removal of ungulates (i.e., trapping, snaring, and shooting) with the goal of eradication within the fenced areas;

Invasive plant removal; and

Propagation, planting, and establishment of dominant and rare species characteristic of native limestone forest and savanna complex habitats.

○ Prior to any site preparation at the AAFB MSA site, ungulate exclusion fencing would be installed commensurate with the amount of limestone forest removal associated with the AAFB MSA site.

• Pre-Construction Surveys, General ESA-Listed Plant Salvage and Transplantation

○ If pre-construction surveys identify an ESA-listed plant as present in the construction area, one of the following will occur:

1. Salvageable ESA-listed plants will be directly transplanted into HESs. Transplantation will occur after fencing and ungulate removal is complete (see CM-3) and the site is reasonably likely to support the transplants; or

2. If individuals cannot be directly transplanted, then propagules will be salvaged or collected, and such material housed in a native plant nursery until they are ready for transplant into the HESs.

3. If there is an insufficient number of propagules or whole plants from within the project footprint to collect or salvage, then propagule collection from other sources outside the project footprint will be conducted to provide seedlings to meet transplanting/outplanting establishment targets. Transplantation/outplanting timing will be site specific for each EIAMD system site.

• Mariana Eight-Spot Butterfly Host Plant Outplanting at HESs

○ The DoD will plant Mariana eight-spot butterfly host plants within the HESs. The number of host plants established within the HESs will be commensurate with the number of individuals removed with the implementation of the Proposed Action.

2. Transportation

The MDA and USA recognize potential impacts on transportation associated with implementation of the Proposed Action. To minimize these impacts, any mitigation measures would be coordinated with the Guam Department of Public Works for the most appropriate solution. Mitigations would be implemented where practical and feasible, and applicable permits would be obtained. These solutions would also be coordinated with stakeholders prior to implementation. Any such mitigations would only be accomplished if duly authorized and funded by Federal legislation.

J. Environmentally Preferred Alternative

Based on the findings of the EIAMD System on Guam Final EIS, the No Action Alternative would be the environmentally preferred alternative because the significant, adverse, cumulative impacts from the Proposed Action would not occur. However, under the No Action Alternative, defensive capabilities would not be expanded to provide enhanced defense capability for Guam, nor would it satisfy the purpose of or need for the Proposed Action.

K. Post-Final Environmental Impact Statement Comments

On August 15, 2025, the Governor and Lieutenant Governor of Guam submitted a letter to the MDA Director responding to the EIAMD System on Guam Final EIS on behalf of the people of Guam and the Government of Guam. The letter indicates the Final EIS does not sufficiently address cumulative impacts on Guam's infrastructure, public services, economy, and natural and cultural resources, noting two reports issued in 2025 by the U.S. Government Accountability Office (GAO-25-108187 and GAO-25-107453). While neither of these GAO reports were specifically addressed in the Final EIS, we reviewed the reports and determined they provide no new information or data and the reports' conclusions were based significantly upon the same available information and data analyzed in the EIS. In fact, both reports make reference to MDA resources, including in one report, the EIAMD System on Guam Draft EIS. We have determined the August 15, 2025, letter from the Governor and Lieutenant Governor of Guam does not provide new data or information that would necessitate supplementing the Final EIS before a decision may be made. Further, the conclusions and recommendations made in the letter were taken into consideration before this decision was made.

No other comments were received after the EIAMD System on Guam Final EIS was published that need be addressed before a decision may be made.

L. Decision

In accordance with NEPA, we have considered the information contained within the EIAMD System on Guam Final EIS, comments from the public, input from regulatory agencies, EIAMD system capabilities including system performance and operation effectiveness, the analysis of the missile threat to Guam, and other relevant factors in deciding whether to implement the EIAMD system on Guam. We have decided to select the Proposed Action over the No Action Alternative. Although the No Action Alternative would have fewer environmental impacts, it would not support the purpose and need of a 360-degree defense of Guam. While this decision reflects the intent of the MDA and the USA to proceed with the Proposed Action, not all of the Proposed Action is immediately funded. In accordance with the BO, site-specific mitigations, which are yet to be authorized and funded, would only be accomplished should the portion of the Proposed Action necessitating mitigation proceed. No subsequent decision is required to proceed with the mitigations described in the Biological Opinion or the construction, deployment, operations, and maintenance of any of the sites described in the Final EIS.

(Authority: The DoD NEPA Implementing Procedures, Part 4.1[d] [June 20, 2025] [90 FR 27857] allow for the publication of notices in the Federal Register for ROD notices)

Dated: September 5, 2025.
Stephanie J. Bost,
Alternate OSD Federal Register Liaison Officer, Department of Defense.

[FR Doc. 2025-17312 Filed 9-8-25; 8:45 am]

BILLING CODE 6001-FR-P